DEPARTMENT OF THE TREASURY

Submission for OMB Review; Comment Request

December 15, 2010.

The Department of the Treasury is planning to submit the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11020, 1750 Pennsylvania Avenue, NW., Washington, DC 20220.

DATES: Written comments should be received on or before February 22, 2011 to be assured of consideration.

HR Connect

OMB Number: 1505-0225.

Type of Review: Renewal.

Title: Information on Processing Garnishment Orders.

Description: On April 19, 2010 Treasury, SSA, VA, RRB and OPM published a proposed rule to implement statutory restriction on the garnishment of Federal benefits. The Agencies took this action to alleviate the hardships being experienced by recipients of Federal benefit payments, which are statutorily exempt from garnishment, and to establish procedures for financial institutions to follow so that they are not compelled to freeze funds in an account as a result of the receipt of a court ordered garnishment. This collection of information is needed so that Treasury can gain a thorough understanding of the existing processing of court ordered garnishments served specifically on credit unions. The information obtained is necessary to devise a workable solution that balances the interests of individuals receiving federal benefit payments, which are statutorily exempt from garnishment, and financial institutions which provide deposit accounts.

Respondents: Businesses or other for-profit institutions, and not-for-profit institutions.

Estimated Total Reporting Burden: 260 hours.

Agency Contact: Barbara Wiss, (202) 622-5034, Room 1054, 1500 Pennsylvania Avenue, Washington, DC 20220.

Robert Dahl,
Treasury PRA Clearance Officer.

[FR Doc. 2010-32002 Filed 12-20-10; 8:45 am]

BILLING CODE 4810-25-P